DEPARTMENT OF TRANSPORTATION

Federal Aviation Administration

Notice of Intent To Rule on Application 04-10-U-00-CRW To Use the Revenue From a Passenger Facility Charge (PFC) at Yeager Airport, Charleston, WV

AGENCY: Federal Aviation Administration (FAA), DOT.

ACTION: Notice of intent to rule on application.

SUMMARY: The FAA proposes to rule and invites public comment on the application to use the revenue from a PFC at Yeager Airport under the provisions of the Aviation Safety and Capacity Expansion Act of 1990 (Title IX of the Omnibus Budget Reconciliation Act of 1990) (Pub. L. 101-508) and part 158 of the Federal Aviation Regulations (14 CFR part 158).

DATES: Comments must be received on or before June 14, 2004.

ADDRESSES: Comments on this application may be mailed or delivered in triplicate to the FAA at the following address: Beckley Airports District Office, 176 Airport Circle, Room 101, Beaver, West Virginia 25813.

In addition, one copy of any comments submitted to the FAA must be mailed or delivered to Mr. Richard Atkinson, Director of Aviation of the Central West Virginia Regional Airport Authority at the following address: 100 Airport Road, Suite 175, Charleston, West Virginia 25311-1080.

Air carriers and foreign air carriers may submit copies of written comments previously provided to the Central West Virginia Regional Airport Authority under § 158.23 of part 158.

FOR FURTHER INFORMATION CONTACT: Mr. Larry F. Clark, Manager, Airports District Office, 176 Airport Circle, Room 101, Beaver, West Virginia 25813, (304) 252-6216. The application may be reviewed in person at this same location.

SUPPLEMENTARY INFORMATION: The FAA proposes to rule and invites public comment on the application to use the revenue from a PFC at Yeager Airport under the provisions of the Aviation Safety and Capacity Expansion Act of 1990 (Title IX of the Omnibus Budget Reconciliation Act of 1990) (Pub. L. 101-508) and part 158 of the Federal Aviation Regulations (14 CFR part 158).

On May 3, 2004, the FAA determined that the application to use the revenue from a PFC submitted by Central West Virginia Regional Airport Authority was substantially complete within the requirements of section 158.25 of part 158. The FAA will approve or disapprove the application, in whole or in part, no longer than August 6, 2004.

The following is a brief overview of the application.

PFC Application No.: 04-10-U-00-CRW.

Level of the proposed PFC: $4.50.

Proposed charge effective date: August 1, 2002.

Proposed charge expiration date: April 1, 2003.

Total estimated PFC revenue: $912,000.

Brief description of proposed project:

—Taxiway A Relocation

Class or classes of air carriers which the public agency has requested not be required to collect PFCs:

—Under FAR Part 135—Charter Operators for hire to the general public

—Under FAR Part 121—Unscheduled Charter Operators for hire to the general public

—Non-signatory and non-scheduled Air Carriers

Any person may inspect the application in person at the FAA office listed above under FOR FURTHER INFORMATION CONTACT and at the FAA regional airports office located at: 1 Aviation Plaza, Airports Division, AEA-610, Jamaica, New York 11434.

In addition, any person may, upon request, inspect the application, notice and other documents germane to the application in person at the Central West Virginia Regional Airport Authority.

Issued in Beckley, West Virginia, on May 3, 2003.
Larry F. Clark,
Manager, Beckley ADO, Eastern Region.

[FR Doc. 04-11000 Filed 5-13-04; 8:45 am]

BILLING CODE 4910-13-M